DEPARTMENT OF JUSTICE

Immigration and Naturalization Service

[INS No. 2087-00; AG Order No. 2327-2000]

RIN 1115-AE26

Extension of Designation of Montserrat Under Temporary Protected Status Program

AGENCY: Immigration and Naturalization Service, Justice.

ACTION: Notice.

SUMMARY: This notice extends the Attorney General's designation of Montserrat under the Temporary Protected Status (TPS) program until August 27, 2001. Eligible nationals of Montserrat (or aliens having no nationality who last habitually resided in Montserrat) may re-register for TPS and an extension of employment authorization. Re-registration is limited to persons who registered during the initial registration period, which ended on August 27, 1998, or who registered after that date under the late initial registration provision. Persons who are elilgible for late initial registration may register for TPS during this extension.

EFFECTIVE DATES: The extension of the TPS designation for Montserrat is effective August 28, 2000, and will remain in effect until August 27, 2001. The 30-day re-registration period begins October 2, 2000 and will remain in effect until November 1, 2000.

FOR FURTHER INFORMATION CONTACT: Michael Valverde, Residence and Status Services Branch, Adjudications, Immigration and Naturalization Service (INS), Room 3214, 425 I Street, NW., Washington, DC 20536, telephone (202) 514-4754.

SUPPLEMENTARY INFORMATION:

What Authority Does the Attorney General Have To Extend the Designation of Montserrat Under the TPS Program?

Section 244(b)(3)(A) of the Immigration and Nationality Act (Act) states that at least 60 days before the end of an extension or a designation, the Attorney General must review conditions in the designated foreign state. 8 U.S.C. 1254a(b)(3)(A). If the Attorney General determines that the foreign state continues to meet the conditions for designation, the period of designation is extended, pursuant to section 244(b)(3)(C) of the Act. 8 U.S.C. 1254a(b)(3)(C). With respect to Montserrat, such an extension makes TPS available only to persons who have been continuously physically present since August 28, 1997, and have continuously resided in the United States from August 22, 1997.

Why Did the Attorney General Decide To Extend the TPS Designation for Montserrat?

On August 28, 1997, the Attorney General initially designated Montserrat for TPS for a period of 12 months. 62 FR 45685 (Aug. 28, 1997). Based on conditions since then, the Attorney General twice has extended the TPS designation, which ran through August 27, 2000. See 64 FR 48190 (Sept. 2, 1999); 63 FR 45864 (Aug. 27, 1998).

The Departments of State and Justice have recently reviewed conditions within Montserrat. The review resulted in a consensus that a further 12-month extension is warranted. The reasons for the extension are explained in a State Department memorandum that states: “Since the eruptions of the Soufriere Hills volcano began in the southern part of Montserrat in 1997, the island has remained in a state of crisis. Most recently, in March 2000, the volcano turned deadly again.” The memorandum also states that “[t]he most recent reports from the center that monitors the volcano's activity indicate that another such event may occur very soon.”

Based on these reviews, the Attorney General finds the situation in Montserrat meets the conditions for extension under section 244(b)(3)(C) of the Act. 8 U.S.C. 1254a(b)(3)(C). There continues to be a substantial, but temporary, disruption of living conditions in Montserrat as a result of environmental disaster, and Montserrat continues to be unable, temporarily, to handle adequately the return of its nationals. 8 U.S.C. 1254a(b)(1)(B)(i)-(ii). The review failed to show that country conditions have improved to a degree that supports termination. Since the Attorney General did not determine that the conditions in Montserrat no longer warrant TPS, the designation was automatically extended by operation of statute on August 28, 2000. 8 U.S.C. 1254(a)(b)(3)(C).

On the basis of these findings, the Attorney General finds that the TPS designation for Montserrat should be extended for an additional 12-month period, rather than the six month period automatic extension provided for in the statute. 8 U.S.C. 1254a(b)(3)(C).

If I Currently Have TPS, How Do I Register for an Extension?

Only persons previously granted TPS under the initial Montserrat designation may apply for an extension by filing a Form I-821, Application for Temporary Protected Status, without the fee, during the re-registration period that begins October 2, 2000 and ends November 1, 2000. Additionally, you must file a Form I-765, Application for Employment Authorization. To determine whether you must submit the one-hundred dollar ($100) filing fee with the Form I-765, see the chart below.

Chart 1
If | Then
You are applying for employment authorization through August 27, 2001 | You must complete and file the Form I-765, Application for Employment Authorization, with the one-hundred dollar ($100) fee.
You already have employment authorization or do not require employment authorization | You must complete and file the Form I-765 with no fee.
You are applying for employment authorization and are requesting a fee waiver | You must complete and file the Form I-765, the requisite fee waiver request, and affidavit (and any other information), in accordance with 8 CFR 244.20.

To re-register for TPS, you also must include two identification photographs (1½″ x 1½″).

Where Should I File for an Extension of TPS?

Persons seeking to register for an extension of TPS must submit an application and accompanying materials to the INS district office that has jurisdiction over the applicant's place of residence.

When Can I Register for an Extension of TPS?

The 30-day re-registration period begins October 2, 2000 and will remain in effect until November 1, 2000.

How Does an Application for TPS Affect My Application for Asylum or Other Immigration Benefits?

An application for TPS does not preclude or affect an application for asylum or any other immigration benefit. A national of Montserrat (or alien having no nationality who last habitually resided in Montserrat) who is otherwise eligible for TPS and has applied for or plans to apply for asylum, but who has not yet been granted asylum or withholding of removal, may also apply for TPS. Denial of an application for asylum or any other immigration benefit does not affect an applicant's ability to register for TPS, although the grounds of denail may also be grounds of denail for TPS. For example, a person who has been convicted of a particularly serious crime is not eligible for asylum or TPS. 8 U.S.C. 1158(b)(2)(A); 8 U.S.C. 1254a(c)(2)(B).

Is Late Initial Registration Possible?

In addition to timely re-registration, late initial registration is possible for some persons from Montserrat under 8 CFR 244.2(f)(2). Late initial registration applicants must meet the following requirements:

• Be a national of Montserrat (or an alien having no nationality who last habitually resided in Montserrat);

• Have been continuously physically present in the United States since August 28, 1997;

• Have continuously resided in the United States since August 22, 1997; and

• Be admissible as an immigrant, except as provided under section 244(c)(2)(A) of the Act, and not ineligible under section 244(c)(2)(B) of the Act.

Additionally, the applicant must be able to demonstrate that, during the initial registration period from August 28, 1997, through August 27, 1998, he or she:

• Was in valid nonimmigrant status, or had been granted voluntary departure status or any relief from removal;

• Had an application for change of status, adjustment of status, asylum, voluntary departure, or any relief from removal pending or subject to further review or appeal; or

• Was a parolee or has a pending request for reparole; or was the spouse or child of an alien currently eligible to be a TPS registrant.

8 CFR 244.2(f)(2).

An applicant for late initial registration must register no later than sixty (60) days from the expiration or termination of the qualifying status listed above. 8 CFR 244.2(g).

Does This Extension Allow Nationals of Montserrat (or Aliens Having No Nationality Who Last Habitually Resided in Montserrat) Who Entered the United States After August 28, 1997, To File for TPS?

No, this is a notice of an extension of the existing TPS designation for Montserrat, not a notice of redesignation of Montserrat under the TPS program. An extension of TPS does not change the required dates of continuous physical presence and residence in the United States, and it does not expand the TPS program to include nationals of Montserrat (or aliens having no nationality who last habitually resided in Montserrat) who arrived in the United States after the date of the initial designation (in this case, August 28, 1997) or the date designated for continuous residence (in this case, August 22, 1997).

Notice of Extension of Designation of Montserrat Under the TPS Program

By the authority vested in me as Attorney General under sections 244(b)(3)(A) and (C), and (b)(1) of the Act, I have consulted with the appropriate agencies of the government concerning whether the conditions under which Montserrat was initially designated for TPS continue to exist. As a result, I determine that the conditions for the initial designation of TPS for Montserrat continue to be met. 8 U.S.C. 1254a(b)(3)(A), (C), and (b)(1). Accordingly, I order as follows:

(1) The designation of Montserrat under section 244(b) of the Act is extended for an additional 12-month period from August 28, 2000, until August 27, 2001. 8 U.S.C. 1254a(b)(3)(C).

(2) I estimate that there are approximately 300 nationals of Montserrat (or aliens having no nationality who last habitually resided in Montserrat) who have been granted TPS and who are eligible for re-registration.

(3) In order to be eligible for TPS during the period from August 28, 2000, through August 27, 2001, a national of Montserrat (for alien having no nationality who last habitually resided in Montserrat) who received a grant of TPS (or has an application pending) during the initial period of designation from August 28, 1997, until August 27, 1998, must re-register for TPS by filing a new Application for Temporary Protected Status, Form I-821, along with an Application for Employment Authorization, Form I-765, within the 30-day period beginning October 2, 2000 and ending on November 1, 2000. Late re-registration will be allowed only for good cause pursuant to 8 CFR 244.17(c).

(4) Pursuant to section 244(b)(3)(A) of the Act, the Attorney General will review, at least 60 days before August 27, 2001, the designation of Montserrat under the TPS program to determine whether the conditions for designation continue to be met. 8 U.S.C. 1254a(b)(3)(A). Notice of that determination, including the reasons underlying it, will be published in the Federal Register.

(5) Information concerning the TPS program for nationals of Montserrat (or aliens having no nationality who last habitually resided in Montserrat) will be available at local INS offices upon publication of this notice and on the INS website at http://www.ins.usdoj.gov.

Dated: September 25, 2000.
Janet Reno,
Attorney General.

[FR Doc. 00-25250 Filed 9-29-00; 8:45 am]

BILLING CODE 4410-10-M